DEPARTMENT OF COMMERCE

National Oceanic and Atmospheric Administration

RIN 0648-XG723

Fisheries of the Northeastern United States; Atlantic Mackerel, Squid, and Butterfish Fisheries; Scoping Process

AGENCY: National Marine Fisheries Service (NMFS), National Oceanic and Atmospheric Administration (NOAA), Commerce.

ACTION: Notice of intent to prepare an environmental impact statement (EIS); notice of initiation of scoping process; notice of public scoping meetings; request for comments.

SUMMARY: The Mid-Atlantic Fishery Management Council announces its intent to prepare, in cooperation with NMFS, an amendment to the Atlantic Mackerel, Squid, and Butterfish Fishery Management Plan. An environmental impact statement may be necessary for the amendment to analyze the impacts of potential management measures in accordance with the National Environmental Policy Act. The Council has initiated this amendment to review and consider modifications to both the permitting system for Illex squid and the fishery management plan goals and objectives. This notice announces a public process for determining the scope of issues to be addressed, and for identifying the significant issues related to this action. This notice alerts the interested public of the scoping process, the potential development of a draft environmental impact statement, and to provide for public participation in that process.

DATES: Written comments must be received on or before 11:59 p.m., EST, on April 12, 2019. Public scoping meetings will be held during this comment period. See SUPPLEMENTARY INFORMATION for dates, times, and locations.

ADDRESSES: Written comments may be sent by any of the following methods:

• Email to the following address: nmfs.gar.illexpermitandgoals@noaa.gov. Include “Illex Permits and FMP Goals Amendment Scoping Comments” in the subject line;

• Mail or hand deliver to Dr. Christopher M. Moore, Executive Director, Mid-Atlantic Fishery Management Council, 800 North State Street, Suite 201, Dover, Delaware 19901. Mark the outside of the envelope “Illex Permits and FMP Goals Amendment Scoping Comments”; or

• Fax to (302) 674-5399.

Comments may also be provided at the April 2019 Council meeting. See SUPPLEMENTARY INFORMATION for the meeting date, time, and location.

The scoping document may be obtained from the Mid-Atlantic Fishery Management Council office at the previously provided address, by request to the Council by telephone (302) 674-2331, or at http://www.mafmc.org/msb/.

FOR FURTHER INFORMATION CONTACT: Dr. Christopher M. Moore, Mid-Atlantic Fishery Management Council, 800 North State Street, Suite 201, Dover, DE 19901; telephone (302) 674-2331.

SUPPLEMENTARY INFORMATION:

Background

The Council initiated this action to review and consider modifications to both the permitting system for Illex squid and the goals and objectives of the entire Atlantic Mackerel, Squid, and Butterfish Fishery Management Plan (FMP). In June 2017, the Council considered, but did not adopt, revisions to Illex squid permits as part of Amendment 20 to the FMP (December 14, 2018; 83 FR 64257). Since then, effort has increased and the fishery has been closed in both 2017 and 2018 after fully harvesting available Illex squid quota. Given recent fishery performance, the Council is evaluating if permitted access to the Illex fishery should be modified based on recent and historical participation. Existing FMP goals and objectives have not been revised since they were originally established in 1983. The Council is seeking input whether these goals and objectives are still appropriate for managing the Atlantic mackerel, squid, and butterfish fisheries or if they should be modified. More details may be found in the Scoping Document (see ADDRESSES for how to obtain scoping document) and on the Atlantic Mackerel, Squid, and Butterfish page of the Council's website at http://www.mafmc.org/msb/.

The scoping period is an important opportunity for members of the public to raise concerns related to the scope of issues that will be considered in the amendment. The Council needs public input to identify management issues, develop effective alternatives, and identify possible impacts to be considered. Public comments early in the amendment development process will help the Council address issues of public concern in a thorough and appropriate manner. Comments can be made during the scoping hearings or as described above (see ADDRESSES).

After this initial phase of information gathering, if the Council decides to proceed with the amendment the Council will evaluate potential management alternatives. The Council will then develop a draft amendment, incorporating the identified management alternatives, for public review. The Council will also prepare draft environmental analyses, as required by the National Environmental Policy Act, and provide those analyses for review and comment by the public as appropriate. Finally, the Council will choose preferred management measures for submission with the appropriate environmental analyses to the Secretary of Commerce to publish a proposed and then final rule, both of which have additional comment periods. While there are many opportunities for public comment in the process, this initial scoping comment opportunity is particularly important for assisting the Council in establishing the overall focus and direction of the amendment.

Scoping Hearings

Although the Council did not ultimately revise Illex squid permits as part of Amendment 20 to the FMP, the public provided scoping comments during the development of that action in response to a Notice of Intent published in the Federal Register on March 26, 2015 (80 FR 15991), which the Council considered as part of that action. To solicit further public comment on Illex squid permits and potential updates to the FMP objectives, the Council accepted additional comments at the following four meetings:

Date | Address
Monday, February 4, 2019, at 6:00 p.m | Corless Auditorium, University of Rhode Island Bay Campus, 215 South Ferry Road, Narragansett, RI 02882, 401-874-6440.
Tuesday, February 5, 2019, at 5:30 p.m | Gurney's Inn, 290 Old Montauk Road, Montauk, NY 11954, 631-668-2345.
Wednesday, February 6, 2019, at 5:30 p.m | Congress Hall Hotel, 200 Congress Place, Cape May, NJ 08204, 609-884-8421.
Thursday, February 7, 2019, at 6:00 p.m | Internet webinar: http://mafmc.adobeconnect.com/msb-scoping-2019/, Webinar help: 302-397-1131, With a listening station at the new Virginia Marine Resources Commission location:, 380 Fenwick Road, Ft. Monroe, VA 23651, 757-247-2200.

Due to the late 2018/early 2019 government shutdown, prior notice of these meetings was not published in the Federal Register and NMFS was not able to publish this Notice of Intent before the above hearings. To facilitate comments within the comment period for this notice, an additional internet webinar scoping hearing will be conducted on Wednesday, March 13, 2019, at 7:00 p.m. via this link: http://mafmc.adobeconnect.com/msb-scoping-2019/. The Council will also accept additional in-person scoping comments provided at its April 9-11, 2019, meeting at the Icona Golden Inn, 7849 Dune Drive, Avalon, NJ 08202 (telephone number: 609-368-5155). The date and time for the scoping hearing during the April Council meeting will be published in a future separate Federal Register notice specific to that meeting. When further developing this action, the Council will consider all relevant public comments received during previously scheduled 2019 hearings even though they occurred prior to the official comment period defined in this Notice of Intent.

Special Accommodations

The scoping hearings are accessible to people with disabilities. Requests for sign language interpretation or other auxiliary aid should be directed to M. Jan Saunders (302-674-2331, ext 251) at least 5 days prior to the meeting date.

Authority: 16 U.S.C. 1801 et seq.

Dated: February 13, 2019.
Karen H. Abrams,
Acting Director, Office of Sustainable Fisheries, National Marine Fisheries Service.

[FR Doc. 2019-02697 Filed 2-15-19; 8:45 am]

BILLING CODE 3510-22-P